DEPARTMENT OF ENERGY

Federal Energy Regulatory Commission

Combined Notice of Filings #1

Take notice that the Commission received the following exempt wholesale generator filings:

Docket Numbers: EG15-82-000.

Applicants: Balko Wind Transmission, LLC.

Description: Self-Certification of Exempt Wholesale Generator Status of Balko Wind Transmission, LLC.

Filed Date: 5/5/15.

Accession Number: 20150505-5095.

Comments Due: 5 p.m. ET 5/26/15.

Take notice that the Commission received the following electric rate filings:

Docket Numbers: ER15-958-002.

Applicants: Transource Kansas, LLC.

Description: Compliance filing per 35: Transource Kansas Compliance Filing to be effective 4/3/2015.

Filed Date: 5/4/15.

Accession Number: 20150504-5195.

Comments Due: 5 p.m. ET 5/26/15.

Docket Numbers: ER15-1466-001.

Applicants: ISO New England Inc., New England Power Company.

Description: Tariff Amendment per 35.17(b): Errata to Filing of First Rev Service Agreement Nos. TSA-NEP-83 and TSA-NEP-86 to be effective 6/7/201.

Filed Date: 5/4/15.

Accession Number: 20150504-5201.

Comments Due: 5 p.m. ET 5/26/15.

Docket Numbers: ER15-1665-000.

Applicants: Greenleaf Power Management LLC.

Description: Initial rate filing per 35.12 Baseline new to be effective 6/30/2015.

Filed Date: 5/4/15.

Accession Number: 20150504-5208.

Comments Due: 5 p.m. ET 5/26/15.

Docket Numbers: ER15-1666-000.

Applicants: Southwest Power Pool, Inc.

Description: Compliance Filing for Order No. 1000, Regarding Interregional Coordination and Cost Allocation of Transmission Projects with the Mid-Continent Area Power Pool and NorthWestern Corporation of Southwest Power Pool, Inc.

Filed Date: 5/4/15.

Accession Number: 20150504-5253.

Comments Due: 5 p.m. ET 5/26/15.

Docket Numbers: ER15-1667-000.

Applicants: Northwestern Corporation.

Description: Compliance Filing for Order No. 1000, Regarding Interregional Coordination and Cost Allocation of Transmission Projects with the Mid-Continent Area Power Pool and Southwest Power Pool, Inc. of Northwestern Corporation.

Filed Date: 5/4/15.

Accession Number: 20150504-5256.

Comments Due: 5 p.m. ET 5/26/15.

Docket Numbers: ER15-1668-000.

Applicants: Phoenix Energy Group, LLC.

Description: Initial rate filing per 35.12 Application for MBR Authority to be effective 6/5/2015.

Filed Date: 5/5/15.

Accession Number: 20150505-5092.

Comments Due: 5 p.m. ET 5/26/15.

Docket Numbers: ER15-1669-000.

Applicants: PJM Interconnection, L.L.C.

Description: § 205(d) rate filing per 35.13(a)(2)(iii): Original Service Agreement No. 4104; Queue No. U2-045/W4-063 to be effective 4/7/2015.

Filed Date: 5/5/15.

Accession Number: 20150505-5154.

Comments Due: 5 p.m. ET 5/26/15.

Docket Numbers: ER15-1670-000.

Applicants: Southern California Edison Company.

Description: § 205(d) rate filing per 35.13(a)(2)(iii): Amended Desert Harvest LGIA to be effective 5/6/2015.

Filed Date: 5/5/15.

Accession Number: 20150505-5157.

Comments Due: 5 p.m. ET 5/26/15.

Docket Numbers: ER15-1671-000.

Applicants: Public Service Company of Colorado.

Description: § 205(d) rate filing per 35.13(a)(2)(iii): 2015-5-5_TSGT-Blue River E&P-405-0.0.0-Filing to be effective 7/4/2015.

Filed Date: 5/5/15.

Accession Number: 20150505-5159.

Comments Due: 5 p.m. ET 5/26/15.

Docket Numbers: ER15-1672-000.

Applicants: Evergreen Wind Power II, LLC.

Description: Initial rate filing per 35.12 Application for Market-Based Rate Authority to be effective 7/5/2015.

Filed Date: 5/5/15.

Accession Number: 20150505-5168.

Comments Due: 5 p.m. ET 5/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2015.
Nathaniel J. Davis, Sr.,
Deputy Secretary.

[FR Doc. 2015-11811 Filed 5-15-15; 8:45 am]

BILLING CODE 6717-01-P